DEPARTMENT OF ENERGY

Federal Energy Regulatory Commission

Combined Notice of Filings #1

Take notice that the Commission received the following electric rate filings:

Docket Numbers: ER18-1215-003.

Applicants: Radford's Run Wind Farm, LLC.

Description: Report Filing: Refund Report Filing to be effective N/A.

Filed Date: 2/6/19.

Accession Number: 20190206-5022.

Comments Due: 5 p.m. ET 2/27/19.

Docket Numbers: ER19-460-001.

Applicants: Southwest Power Pool, Inc.

Description: Compliance filing: Amended Order No. 841 Compliance Filing to be effective 12/1/2019.

Filed Date: 2/6/19.

Accession Number: 20190206-5087.

Comments Due: 5 p.m. ET 2/27/19.

Docket Numbers: ER19-517-001.

Applicants: Interstate Power and Light Company.

Description: Tariff Amendment: Amendment Market Based Rate Tariff to be effective 2/5/2019.

Filed Date: 2/5/19.

Accession Number: 20190205-5122.

Comments Due: 5 p.m. ET 2/26/19.

Docket Numbers: ER19-519-001.

Applicants: Wisconsin Power and Light Company.

Description: Tariff Amendment: Market Based Rate Tariff to be effective 2/5/2019.

Filed Date: 2/5/19.

Accession Number: 20190205-5123.

Comments Due: 5 p.m. ET 2/26/19.

Docket Numbers: ER19-991-000.

Applicants: Midcontinent Independent System Operator, Inc.

Description: § 205(d) Rate Filing: 2019-02-06_SA 3233 OTP-MDU-Dakota Range III GIA (J488) to be effective 1/23/2019.

Filed Date: 2/6/19.

Accession Number: 20190206-5037.

Comments Due: 5 p.m. ET 2/27/19.

Docket Numbers: ER19-992-000.

Applicants: Southwest Power Pool, Inc.

Description: § 205(d) Rate Filing: 3391 Municipal Energy Agency of Nebraska PTP Cancellation to be effective 1/1/2019.

Filed Date: 2/6/19.

Accession Number: 20190206-5043.

Comments Due: 5 p.m. ET 2/27/19.

Docket Numbers: ER19-993-000.

Applicants: PJM Interconnection, L.L.C.

Description: § 205(d) Rate Filing: Original ISA, SA No. 5258; Queue No. AC1-085 to be effective 1/7/2019.

Filed Date: 2/6/19.

Accession Number: 20190206-5048.

Comments Due: 5 p.m. ET 2/27/19.

Docket Numbers: ER19-994-000.

Applicants: Alabama Power Company.

Description: § 205(d) Rate Filing: Glennville Solar LGIA Filing to be effective 1/28/2019.

Filed Date: 2/6/19.

Accession Number: 20190206-5050.

Comments Due: 5 p.m. ET 2/27/19.

Docket Numbers: ER19-995-000.

Applicants: Public Service Company of Oklahoma.

Description: § 205(d) Rate Filing: PSO-WFEC Bear Creek Delivery Point Agreement Cancellation to be effective 1/31/2019.

Filed Date: 2/6/19.

Accession Number: 20190206-5051.

Comments Due: 5 p.m. ET 2/27/19.

Docket Numbers: ER19-996-000.

Applicants: Midcontinent Independent System Operator.

Description: § 205(d) Rate Filing: 2019-02-06_SA 3234 Otter Tail Power Company-Dakota Range III, LLC FCA (J488) to be effective 1/23/2019.

Filed Date: 2/6/19.

Accession Number: 20190206-5067.

Comments Due: 5 p.m. ET 2/27/19.

Docket Numbers: ER19-997-000.

Applicants: Pinetree Power LLC.

Description: Baseline eTariff Filing: Application for Market-Based Rate Authorization to be effective 4/8/2019.

Filed Date: 2/6/19.

Accession Number: 20190206-5086.

Comments Due: 5 p.m. ET 2/27/19.

Take notice that the Commission received the following electric securities filings:

Docket Numbers: ES19-16-000.

Applicants: Xcel Energy Southwest Transmission Company.

Description: Application under Section 204 of the Federal Power Act for Authorization to Issue Securities of Xcel Energy Southwest Transmission Company, LLC.

Filed Date: 2/5/19.

Accession Number: 20190205-5156.

Comments Due: 5 p.m. ET 2/26/19.

Docket Numbers: ES19-17-000.

Applicants: Xcel Energy Transmission Development Company.

Description: Application under Section 204 of the Federal Power Act for Authorization to Issue Securities of Xcel Energy Transmission Development Company, LLC.

Filed Date: 2/5/19.

Accession Number: 20190205-5158.

Comments Due: 5 p.m. ET 2/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2019.
Nathaniel J. Davis, Sr.,
Deputy Secretary.

[FR Doc. 2019-02078 Filed 2-11-19; 8:45 am]

BILLING CODE 6717-01-P